DEPARTMENT OF ENERGY

Federal Energy Regulatory Commission

[Docket No. RP05-51-000]

Dominion Transmission, Inc.; Notice of Technical Conference

January 12, 2005.

Take notice that the Commission will convene a technical conference on Tuesday, February 1, 2005, at 10 a.m., in a room to be designated at the offices of the Federal Energy Regulatory Commission, 888 First Street, NE., Washington, DC 20426.

The purpose of the conference will be to discuss proposals by Dominion to update tariff provisions in its General Terms & Conditions (GT&C) pertaining to rights of first refusal and the allocation of unsubscribed firm capacity. The Commission directed its staff to convene this technical conference in a November 30, 2004 Order.¹

¹ Dominion Transmission, Inc., 109 FERC ¶ 61,244 (2004).

FERC conferences are accessible under section 508 of the Rehabilitation Act of 1973. For accessibility accommodations please send an e-mail to accessibility@ferc.gov or call toll free (866) 208-3372 (voice) or 202-208-1659 (TTY), or send a FAX to 202-208-2106 with the required accommodations.

All interested persons are permitted to attend. For further information please contact Eric Winterbauer at (202) 502-8329 or e-mail eric.winterbauer@ferc.gov.

Magalie R. Salas,
Secretary.

[FR Doc. E5-180 Filed 1-18-05; 8:45 am]

BILLING CODE 6717-01-P